DEPARTMENT OF HOMELAND SECURITY

[Docket No. DHS-2012-0001]

Critical Infrastructure Private Sector Clearance Program Request

AGENCY: National Protection and Programs Directorate, DHS.

ACTION: 60-day notice and request for comments; Reinstatement, with change, of a previously approved collection.

SUMMARY: The Department of Homeland Security (DHS), National Protection and Programs Directorate (NPPD), Office of Infrastructure Protection (IP) will submit the following Information Collection Request to the Office of Management and Budget (OMB) for review and clearance in accordance with the Paperwork Reduction Act of 1995 (Pub. L. 104-13, 44 U.S.C. Chapter 35).

DATES: Comments are encouraged and will be accepted until June 11, 2012. This process is conducted in accordance with 5 CFR 1320.1.

ADDRESSES: Written comments and questions about this Information Collection Request should be forwarded to DHS/NPPD/IP/Monika Junker, 245 Murray Lane, SW., Mail Stop 0609, Arlington, VA 20598-0609. Emailed requests should go to Monika Junker, monika.junker@dhs.gov. Written comments should reach the contact person listed no later than June 11, 2012. Comments must be identified by “DHS-2012-0001”and may be submitted by one of the following methods:

• Federal eRulemaking Portal: http://www.regulations.gov.

• Email: Include the docket number in the subject line of the message.

Instructions: All submissions received must include the words “Department of Homeland Security” and the docket number for this action. Comments received will be posted without alteration at http://www.regulations.gov, including any personal information provided.

SUPPLEMENTARY INFORMATION: The Critical Infrastructure Private Sector Clearance Program (PSCP) sponsors clearances for private sector partners who are responsible for critical infrastructure protection, but would not otherwise be eligible for a clearance under Executive Order 12829. These partners are subject matter experts within specific industries and sectors. The PSCP requires individuals to complete a clearance request form that initiates the clearance process. DHS Sector Specialists or Protective Security Advisors email the form to the individual who then emails back the completed form, minus their date and place of birth and social security number. The clearance request form is signed by both the Federal official who nominated the applicant and by the Assistant Secretary for Infrastructure Protection. Upon approval to process, the PSCP Administrator will contact the nominee to obtain the social security number, date and place of birth, and will then enter this data into e-QIP—Office of Personnel Management's secure portal for investigation processing. Once the data is entered in e-QIP, the applicant can complete the online security questionnaire. The PSCP maintains all applicants' information in the Master Roster, which contains all the information found on the clearance request form in addition to their clearance information (date granted, level of clearance, date non-disclosure agreements signed, and type/date of investigation). The Administrator of the Master Roster maintains the information so as to track clearance processing and investigation information and to have the most current contact information for the participants from each sector.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Infrastructure Protection.

Title: Critical Infrastructure Private Sector Clearance Program Request.

OMB Number: 1670-0013.

Frequency: Once.

Affected Public: Designated private sector employees of critical infrastructure entities or organizations.

Number of Respondents: 450 (estimate).

Estimated Time per Respondent: 10 minutes.

Total Burden Hours: 75.

Total Burden Cost (capital/startup): $0.

Total Recordkeeping Burden: $0.

Total Burden Cost (operating/maintaining): $0.

Dated: April 4, 2012.
David Epperson,
Chief Information Officer, National Protection and Programs Directorate, Department of Homeland Security.

[FR Doc. 2012-8738 Filed 4-11-12; 8:45 am]

BILLING CODE 9110-9P-P